DEPARTMENT OF THE INTERIOR

Fish and Wildlife Service

[Docket No. FWS-HQ-NWRS-2019-0067; FF09R50000-18X-FVRS8451900000]

National Wildlife Refuge System; Loess Bluffs National Wildlife Refuge; Possible Name Change

AGENCY: Fish and Wildlife Service, Interior.

ACTION: Notice; request for comments.

SUMMARY: We, the U.S. Fish and Wildlife Service (Service, we), are considering renaming the Loess Bluffs National Wildlife Refuge. We invite the public to comment on the question of whether or not to rename this refuge.

DATES: Interested persons are invited to submit comments that are postmarked on or before August 23, 2019.

ADDRESSES: You may submit written comments by one of the following methods:

(1) Electronically: Go to the Federal eRulemaking Portal: http://www.regulations.gov. Search for FWS-HQ-NWRS-2019-0067, which is the docket number for this rulemaking. Please ensure you have found the correct docket before submitting your comments.

(2) By hard copy: Submit by U.S. mail or hand-delivery to: Public Comments Processing, Attn: Docket No. FWS-HQ-NWRS-2019-0067, U.S. Fish and Wildlife Service, MS: JAO/1N, 5275 Leesburg Pike, Falls Church, VA 22041-3803.

FOR FURTHER INFORMATION CONTACT: Ken Fowler, NWRS Division of Realty, U.S. Fish and Wildlife Service, 5275 Leesburg Pike, MS: 3N038D, Falls Church, VA 22041-3803; (703) 358-1713.

SUPPLEMENTARY INFORMATION: We are soliciting comments on the question of whether or not to rename the Loess Bluffs National Wildlife Refuge, located in Holt County, Missouri. You may submit your comments and materials concerning this issue by one of the methods listed in ADDRESSES. We request that you send comments only by the methods described in ADDRESSES.

Background

On January 10, 2017, the Service Director approved a request from the Service Regional Director, Midwest Region, to rename the Squaw Creek National Wildlife Refuge, located in Holt County, Missouri, to Loess Bluffs National Wildlife Refuge. This decision followed a meeting that was held at the refuge on December 19, 2016, with certain interested parties to discuss suitable alternatives for the name change. The majority of the group of stakeholders and Tribal and community leaders present at the meeting concurred that recognizing the loess hills geologic formation would be the best alternative.

Now, in response to congressional direction in House Report 115-765, which accompanied the Consolidated Appropriations Act, 2019 (Pub. L. 116-6), enacted February 15, 2019, the Service is opening a public process on the question of whether or not to rename the Loess Bluffs National Wildlife Refuge. Accordingly, through this Federal Register notice, we are inviting the public to comment, for a period of 15 days, on the question of whether or not to rename the Loess Bluffs National Wildlife Refuge.

Public Availability of Comments

Written comments we receive will become part of the public record associated with this action. Before including your address, phone number, email address, or other personal identifying information in your comment, you should be aware that your entire comment—including your personal identifying information—may be made publicly available at any time. While you may request in your comment that we withhold your personal identifying information from public review, we cannot guarantee that we will be able to do so. All submissions from organizations or businesses, and from individuals identifying themselves as representatives or officials of organizations or businesses, will be made available for public disclosure in their entirety.

Next Steps

After review of any comments received, we will determine whether there is public interest in renaming the Loess Bluffs National Wildlife Refuge. If there is significant public interest in renaming the refuge, we will consult local stakeholders about a new name via another open process.

Authority

We provide this notice in accordance with the Congressional direction in House Report 115-765, which accompanied the Consolidated Appropriations Act, 2019 (Pub. L. 116-6).

Dated: July 15, 2019.
Margaret E. Everson,
Principal Deputy Director, Exercising the Authority of the Director for the U.S. Fish and Wildlife Service.

[FR Doc. 2019-16966 Filed 8-7-19; 8:45 am]

BILLING CODE 4333-15-P